DEPARTMENT OF COMMERCE

National Oceanic and Atmospheric Administration

[I.D. 070704G]

Marine Mammals; File Nos. 881-1710, 87-1593, 455-1760, 898-1764, and 782-1676

AGENCY: National Marine Fisheries Service (NMFS), National Oceanic and Atmospheric Administration (NOAA), Commerce.

ACTION: Receipt of applications for permits and permit amendments.

SUMMARY: Notice is hereby given on the following permit requests:

File No. 881-1710: The Alaska SeaLife Center (ASLC), 301 Railway Avenue, Seward, AK 99664 (Dr. Shannon Atkinson, Principal Investigator (PI)), has requested an amendment to scientific research Permit No. 881-1710-02 for studies on harbor seals (Phoca vitulina).

File No. 87-1593: Daniel Costa, University of California, Santa Cruz, Long Marine Lab, 100 Shaffer Road, Santa Cruz, CA 95060, has requested an amendment to scientific research Permit No. 87-1593-04 for studies on southern elephant seals (Mirounga leonia).

File No. 455-1760: The Waikiki Aquarium, 2777 Kalakaua Avenue, Honolulu, HI 96815 (Dr. Andrew Rossiter, PI), has requested a scientific research and enhancement permit for studies on and maintenance of captive Hawaiian monk seals (Monachus schauinslandi).

File No. 898-1764: Sea Life Park Hawaii, 41-202 Kalanianaole Highway, Waimanalo, HI 96795 (Michael T. Osborn, PI), has requested a scientific research and enhancement permit for studies on and maintenance of captive Hawaiian monk seals.

File No. 782-1676: The NMFS Alaska Fisheries Science Center, National Marine Mammal Laboratory (NMML), 7600 Sand Point Way NE, Seattle, WA (Dr. John Bengtson, PI), has applied for a scientific research permit to study ringed seals (Phoca hispida), ribbon seals (Phoca fasciata), and bearded seals (Erignathus barbatus).

DATES: Written, telefaxed, or e-mail comments must be received on or before August 16, 2004.

ADDRESSES: The permit and permit amendment requests and related documents are available for review upon written request or by appointment in the following office(s):

All documents: Permits, Conservation and Education Division, Office of Protected Resources, NMFS, 1315 East-West Highway, Room 13705, Silver Spring, MD 20910; phone (301)713-2289; fax (301)713-0376;

File Nos. 881-1710 and 782-1676: Alaska Region, NMFS, P.O. Box 21668, Juneau, AK 99802-1668; phone (907)586-7221; fax (907)586-7249;

File No. 87-1593: Southwest Region, NMFS, 501 West Ocean Blvd., Suite 4200, Long Beach, CA 90802-4213; phone (562)980-4001; fax (562)980-4018; and

File Nos. 455-1760 and 898-1764: Protected Species Coordinator, Pacific Islands Regional Office, NMFS, 1601 Kapiolani Blvd., Rm, 1110, Honolulu, HI 96814-4700; phone (808)973-2935; fax (808)973-2941.

Written comments or requests for a public hearing on either request should be submitted to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)713-0376, provided the facsimile is confirmed by hard copy submitted by mail and postmarked no later than the closing date of the comment period.

Comments may also be submitted by e-mail. The mailbox address for providing email comments is NMFS.Pr1Comments@noaa.gov. Include the appropriate file number in the subject line of the e-mail comment as a document identifier.

FOR FURTHER INFORMATION CONTACT: Amy Sloan, Tammy Adams, Jennifer Skidmore, or Ruth Johnson, (301)713-2289.

SUPPLEMENTARY INFORMATION: The subject permit (File No. 782-1765), subject amendment to Permit No. 881-1710-00, issued on December 2, 2003 (68 FR 68596) and further modified by two minor amendments (881-1710-01 and -02), and subject amendment to Permit No. 87-1593-01, issued on November 30, 2001 (66 FR 64022) and further modified by three minor amendments (87-1593-02, -03, and -04), are requested under the authority of the Marine Mammal Protection Act of 1972, as amended (MMPA; 16 U.S.C. 1361 et seq.), and the Regulations Governing the Taking and Importing of Marine Mammals (50 CFR part 216).

The subject permits (File Nos. 455-1760 and 898-1764) are requested under the authority of the MMPA, the Regulations Governing the Taking and Importing of Marine Mammals (50 CFR part 216), the Endangered Species Act of 1973, as amended (ESA; 16 U.S.C. 1531 et seq.), and the regulations governing the taking, importing, and exporting of endangered and threatened species (50 CFR 222-227).

Permit No. 881-1710-02 authorizes a long term study to investigate the long term effects of high and low lipid diets on the growth, development, maturity, and health of harbor seals. To accomplish this, five weaned harbor seals are authorized to be captured from the wild in the Gulf of Alaska for long term holding and research at the ASLC. Weaned female pups captured will be sampled in the wild as follows: sedation or anesthesia; body mass, morphometrics, and 3D photogrammetry; blood, blubber, whisker, and skin samples; body composition; flipper tagging and microchip implant; ultrasound; fecal and urine collection; skin and mucosal swabs; endoscopy; and disease screening.

Once at the ASLC the following will be performed annually on the five captured seals and the three adult seals permanently held there: monthly health assessments (as described above); hormone challenge experiments; weights and measurements; blood sampling; fecal and urine sampling; blubber ultrasound; bio-electrical impedance; total blood volume determination; deuterium oxide administration; feeding trials; mucosal swabs, saliva collection, examination of genitalia; blubber biopsies; video, photographic, radiographic, digital, and thermal imaging; and anesthesia and sedation as deemed necessary by the attending veterinarian. The permit expires on November 30, 2008.

The ASLC requests authorization to add a study to assess protein turnover rates in the eight harbor seals (both pups and adults) authorized to be held at the ASLC. The proposed study involves the administration of the stable isotope ¹⁵[N] glycine, a non-essential amino acid involved in protein synthesis, to assess protein turnover in the seals through analysis of blood samples. Sodium bromide (NaBr) would also be administered and post dosage blood samples would occur concurrently for the substances. NaBr is a nonradioactive substance and is used to measure the extracellular phase of body water. Each procedure would occur up to two times per year for the duration of the permit. Also, the take table in the permit for studies at the ASLC on harbor seals has been further clarified and certain changes to the table are requested in this amendment. The activities proposed in this amendment are requested until the expiration of permit.

Permit No. 87-1593-04 authorizes Dr. Costa to conduct research on pinnipeds in two different projects: Project I authorizes research on up to 180 California sea lions (Zalophus californianus) annually, including capture, sedation, bleach marking, tagging (flipper and instrument), sampling (mass, morphometrics, muscle biopsy, blood, deuterium oxide, Evan's blue dye, milk, rectal temperature), heart-rate/stomach-temperature recorder attachment, insertion of a stomach temperature pill, and release. Incidental harassment of California sea lions, northern elephant seals, and northern fur seals is authorized during research in California. Project II authorizes capture, sedation, tagging (flipper and instrument), sampling (mass, morphometrics, blood, deuterium oxide, Evan's blue dye, lavage, ultrasound, whisker, claw, muscle and blubber biopsy) and release of up to 50 adult Crabeater seals (Lobodon carcinophagus), 10 adult leopard seals (Hydrurga leptonyx), 10 adult Weddell seals (Leptonychotes weddellii), and 10 adult Ross seals (Ommatophoca rossii). The permit expires on January 30, 2006. The permit holder requests an amendment to include the addition of up to 30 adult southern elephant seals to the annual activities in Project II, tagging and weighing of up to 50 immature elephant seals, population censusing, and incidental disturbance of up to 100 elephant seals during research. The purpose of this project is to examine the foraging behavior and habitat utilization of the southern elephant seal in the Western Antarctic Peninsula. This project would occur until the expiration date of the permit.

File No. 455-1760: The Waikiki Aquarium proposes to continue the long term maintenance of two captive adult male Hawaiian monk seals. The applicant proposes to conduct research studies on the metabolic requirements of the Hawaiian monk seal by examining seasonal changes in the following parameters associated with a fixed caloric intake: weight gain, blubber thickness, and fecal proximate analysis for seasonal variation in food assimilation. The applicant would also investigate oral and nasal bacterial flora to define the normal baseline and any potential pathogens for developing baseline data on diseases in Hawaiian monk seals. These projects would involve husbandry trained behaviors including weighing, ultrasound measurements, and swab sampling of nose and mouth. Proposed enhancement activities include increased public awareness of the status of the Hawaiian monk seal through an education program that includes web site information, live camera observations posted on the web, public classes, public educational exhibit lectures, a series of graphic panels around the monk seal exhibit, and direct observations of Hawaiian monk seals at the Waikiki Aquarium. The applicant has requested a 5-year permit.

File No. 898-1764: Sea Life Park Hawaii proposes to continue the long term maintenance of two adult male and two adult female captive Hawaiian monk seals. The applicant proposes to conduct research studies on the metabolic requirements of the Hawaiian monk seal by examining seasonal changes in weight gain associated with a known caloric intake. Proposed enhancement activities include increased public awareness through an education program that includes public educational exhibit lectures, public classes, and graphic panels around the monk seal exhibit. The applicant has requested a 5-year permit.

File No. 782-1765: NMML proposes to study the population size and trend, seasonal distribution and movements, habitat selection, and foraging ecology of bearded, ribbon and ringed seals in Alaska. Research objectives will be accomplished by aerial surveys, deployment of electronic instruments on seals, and collection of tissue samples during capture operations. Weaned pups to adults of each species would be studied. Up to 100 seals of each species would be captured, restrained, sedated as necessary, measured, weighed, flipper tagged, sampled (blood, flipper punch, vibrissae), and released; 50 of 100 of those captured would also have VHF, TDR, and/or satellite-linked TDR tags attached; 25 of the 100 captured would also have an underwater timed picture recorder package attached. Up to 15 animals of each species may be inadvertently captured a second time and released without further study. Incidental harassment of all species may occur from aerial surveys and captures. The applicant has requested a 5-year permit.

Concurrent with the publication of this notice in the Federal Register, NMFS is forwarding copies of the applications to the Marine Mammal Commission and its Committee of Scientific Advisors.

Dated: July 9, 2004.
Tammy C. Adams,
Acting Chief, Permits, Conservation and Education Division, Office of Protected Resources, National Marine Fisheries Service.

[FR Doc. 04-16062 Filed 7-14-04; 8:45 am]

BILLING CODE 3510-22-S